FEDERAL COMMUNICATIONS COMMISSION

47 CFR Parts 1 and 64

[DA 04-671]

International Bureau Filing System (IBFS)

AGENCY: Federal Communications Commission.

ACTION: Correcting amendments.

SUMMARY: The Federal Communications Commission published a document in the Federal Register on May 26, 2004 (69 FR 29894), codifying rules governing the electronic filing of documents in the Commission's International Bureau Filing System (IBFS). This document inadvertently contained several errors. The introductory text of § 1.767(a) inadvertently removed §§ 1.767(a)(1) through (11). The rules in new subpart Y were inadvertently designated §§ 1.9000 through 1.9018 instead of §§ 1.10000 through 1.10018, respectively. Finally, the amendments to the section heading for § 64.1001 and paragraphs (a) and (b) did not reflect earlier revisions to § 64.1001. In addition, the effective date for § 64.1001 did not reflect that the rule changes were subject to approval by the Office of Management and Budget under the Paperwork Reduction Act.

DATES: Effective on July 2, 2004, except for the revisions to § 64.1001, which contains information requirements that have not yet been approved by the Office of Management and Budget (OMB). The Commission will publish a document announcing the effective date of this section.

FOR FURTHER INFORMATION CONTACT: Mary Jane Solomon, International Bureau, telephone (202) 418-0593 or via the Internet at maryjane.solomon@fcc.gov.

SUPPLEMENTARY INFORMATION: The Commission published a document in the Federal Register (69 FR 29894, May 26, 2004) to adopt rules governing electronic filing of documents in its International Bureau Filing System (IBFS). The Commission's amendments to the introductory text of § 1.767(a) inadvertently removed §§ 1.767(a)(1) through (11). Also, the Commission adopted a new subpart Y to part 1 of the Commission's rules. The rules in subpart Y were inadvertently designated §§ 1.9000 through 1.9018. Those rules should have been designated as §§ 1.10000 through 1.10018, respectively. Finally, the Commission adopted amendments to § 64.1001, and stated that those amendments would take effect on May 19, 2004. Those amendments did not reflect earlier revisions to § 64.1001 and that those revisions were subject to approval by the Office of Management and Budget (OMB) under the Paperwork Reduction Act. This document corrects these errors by revising §§ 64.1001(a) and (b), and by scheduling the effective date of the revisions to § 64.1001 upon approval by OMB.

List of Subjects in 47 CFR Parts 1 and 64

Administrative practice and procedure, Communications and common carriers, Reporting and recordkeeping requirements.

Accordingly, 47 CFR parts 1 and 64 are corrected by making the following correcting amendments:

PART 1—PRACTICE AND PROCEDURE

1. The authority citation for part 1 continues to read as follows:

Authority: 47 U.S.C. 151, 154(i), 154(j), 155, 225, 303(r), 309 and 325(e).

2. Section 1.767 is amended by revising paragraph (a) to read as follows:

§ 1.767 Cable landing licenses.

(a) Applications for cable landing licenses under 47 U.S.C. 34-39 and Executive Order No. 10530, dated May 10, 1954, should be filed in accordance with the provisions of that Executive Order. You may file your application electronically on the Internet through the International Bureau Filing System (IBFS) or by paper. For information on filing your application through IBFS, see Part 1, Subpart Y and the IBFS homepage at http://www.fcc.gov/ibfs. Paper applications should be filed in duplicate. Regardless of whether they are filed on paper or electronically, these applications must contain:

(1) The name, address and telephone number(s) of the applicant;

(2) The Government, State, or Territory under the laws of which each corporate or partnership applicant is organized;

(3) The name, title, post office address, and telephone number of the officer and any other contact point, such as legal counsel, to whom correspondence concerning the application is to be addressed;

(4) A description of the submarine cable, including the type and number of channels and the capacity thereof;

(5) A specific description of the cable landing stations on the shore of the United States and in foreign countries where the cable will land. The description shall include a map showing specific geographic coordinates, and may also include street addresses, of each landing station. The map must also specify the coordinates of any beach joint where those coordinates differ from the coordinates of the cable station. The applicant initially may file a general geographic description of the landing points; however, grant of the application will be conditioned on the Commission's final approval of a more specific description of the landing points, including all information required by this paragraph, to be filed by the applicant no later than ninety (90) days prior to construction. The Commission will give public notice of the filing of this description, and grant of the license will be considered final if the Commission does not notify the applicant otherwise in writing no later than sixty (60) days after receipt of the specific description of the landing points, unless the Commission designates a different time period;

(6) A statement as to whether the cable will be operated on a common carrier or non-common carrier basis;

(7) A list of the proposed owners of the cable system, including each U.S. cable landing station, their respective voting and ownership interests in each U.S. cable landing station, their respective voting interests in the wet link portion of the cable system, and their respective ownership interests by segment in the cable;

(8) For each applicant of the cable system, a certification as to whether the applicant is, or is affiliated with, a foreign carrier, including an entity that owns or controls a foreign cable landing station in any of the cable's destination markets. Include the citizenship of each applicant and information and certifications required in §§ 63.18(h) through (k), and in § 63.18(o), of this chapter;

(9) A certification that the applicant accepts and will abide by the routine conditions specified in paragraph (g) of this section; and

(10) Any other information that may be necessary to enable the Commission to act on the application.

(11)(i) If applying for authority to assign or transfer control of an interest in a cable system, the applicant shall complete paragraphs (a)(1) through (a)(3) of this section for both the transferor/assignor and the transferee/assignee. Only the transferee/assignee needs to complete paragraphs (a)(8) through (a)(9) of this section. At the beginning of the application, the applicant should also include a narrative of the means by which the transfer or assignment will take place. The application shall also specify, on a segment specific basis, the percentage of voting and ownership interests being transferred or assigned in the cable system, including in a U.S. cable landing station. The Commission reserves the right to request additional information as to the particulars of the transaction to aid it in making its public interest determination.

(ii) In the event the transaction requiring an assignment or transfer of control application also requires the filing of a foreign carrier affiliation notification pursuant to § 1.768, the applicant shall reference in the application the foreign carrier affiliation notification and the date of its filing. See § 1.768. See also paragraph (g)(7) of this section (providing for post-transaction notification of pro forma assignments and transfers of control).

(iii) An assignee or transferee shall notify the Commission no later than thirty (30) days after either consummation of the assignment or transfer or a decision not to consummate the assignment or transfer. The notification may be by letter and shall identify the file numbers under which the initial license and the authorization of the assignment or transfer were granted.

* * * * *

§§ 1.900 through 1.8018 [Redesignated as §§ 1.10000 through 1.10018]

3. In subpart Y, §§ 1.9000 through 1.9018 are redesignated as §§ 1.10000 through 1.10018.

PART 64—MISCELLANEOUS RULES RELATING TO COMMON CARRIERS

4. The authority citation for part 64 continues to read as follows:

Authority: 47 U.S.C. 154, 254(k); secs. 403(b)(2)(B), (c), Public Law 104-104, 110 Stat. 56. Interpret or apply 47 U.S.C. 201, 218, 225, 226, 228, and 254(k) unless otherwise noted.

5. Section 64.1001 is amended by revising the section heading, paragraph (a), and paragraph (b) to read as follows:

§ 64.1001 Requests to modify international settlements arrangements.

(a) The procedures set forth in this rule apply to carriers that are required to file with the International Bureau, pursuant to § 43.51(e) of this chapter, requests to modify international settlement arrangements. Any operating agreement or amendment for which a modification request is required to be filed cannot become effective until the modification request has been granted under paragraph (e) of this section. If you must file a modification request, you may either file electronically or on paper. The electronic form requires you to submit the same information that is required in the paper filing, specified below. A modification request may be filed electronically on the Internet through the International Bureau Filing System (IBFS) or by paper. For information on filing your notification through IBFS, see part 1, subpart Y of this chapter, and the IBFS homepage at http://www.fcc.gov/ibfs.

(b) A modification request must contain the following information:

(1) The applicable international service;

(2) The name of the foreign telecommunications administration;

(3) The present accounting rate (including any surcharges);

(4) The new accounting rate (including any surcharges);

(5) The effective date;

(6) The division of the accounting rate; and

(7) An explanation of any proposed modification(s) in the operating agreement with the foreign correspondent.

* * * * *

Federal Communications Commission.
Marlene H. Dortch,
Secretary.

[FR Doc. 04-15004 Filed 7-1-04; 8:45 am]

BILLING CODE 6712-01-P